NUCLEAR REGULATORY COMMISSION

Pilot Program on the Use of Alternative Dispute Resolution in the Enforcement Program; Request for Comments and Announcement of Public Meeting

AGENCY: Nuclear Regulatory Commission.

ACTION: Request for comments and announcement of public meeting.

SUMMARY: The Commission approved a pilot program to evaluate the use of Alternative Dispute Resolution (ADR) in cases involving the NRC's enforcement activities concerning allegations or findings of discrimination and other wrongdoing. See SECY-04-0044, available at www.nrc.gov. The pilot program was developed to evaluate whether the use of ADR could produce more timely and economical resolution of issues, more effective outcomes, and improved relationships. The NRC staff is now proceeding to evaluate the pilot program after approximately 1 year of operation. As an initial step in the evaluation, the NRC will be holding a public workshop on October 11, 2005, from 1-5 p.m., in room T2-B3 (ACRS Conference Room), Two White Flint North, 11545 Rockville, Maryland, to discuss proposed evaluation criteria and receive comments regarding the pilot program.

DATES: The comment period expires October 31, 2005.

ADDRESSES: Submit written responses to the topics addressed in the “ADR Pilot Program: Proposed Evaluation Criteria” document included on the ADR Web page, as well as other comments pertaining to the ADR pilot program, to Chief, Rules and Directives Branch, Division of Administrative Services, Office of Administration, Mail Stop T6-D59, U.S. Nuclear Regulatory Commission, Washington, DC 20555-0001. Hand deliver comments to: 11555 Rockville Pike, Rockville, Maryland, between 7:30 a.m. and 4:15 p.m., Federal workdays. Comments may be submitted by e-mail to nrcrep@nrc.gov. Copies of comments received may be examined at the NRC's Public Document Room, located at One White Flint North (O1-F21), Rockville, Maryland, 20852-2738.

FOR FURTHER INFORMATION CONTACT: Nick Hilton, Senior Enforcement Specialist, Office of Enforcement, U.S. Nuclear Regulatory Commission, Washington, DC 20555-0001, (301) 415-3055, e-mail ndh@nrc.gov.

SUPPLEMENTARY INFORMATION: “ADR” is a term that refers to a number of processes that can be used in assisting parties in resolving disputes and potential conflicts. Most of these processes are voluntary, where the parties to the dispute are in control of the decision on whether to participate in the process and whether to agree to any resolution of the dispute. The parties are assisted in their efforts to reach agreement by a neutral third party.

Proposed evaluation criteria for the pilot program include: (1) Program effectiveness, including success of the program in helping ensure safety is maintained and settlement rate; (2) program efficiency in terms of both timeliness and cost efficiency; and (3) program satisfaction, including perceptions of fairness, usefulness, parties' satisfaction with outcomes, public perception of the program, and interest in using the program after initial program use. In addition, the NRC is interested in general comments regarding the pilot program and recommendations for a potential future program. The evaluation criteria are addressed in a document for comment on the NRC's Web site at http://www.nrc.gov, select What We Do, Enforcement, then Alternative Dispute Resolution. This document is also available in ADAMS at ML052640603.

After a brief presentation regarding the status of the pilot program, the meeting on October 11, 2005, will be conducted as a roundtable discussion among participants who have been invited to represent the broad spectrum of interests in the areas of allegations and enforcement. The participants include representatives from whistleblower counsels, the public, and the nuclear industry. The meeting is open to the public and all attendees will have an opportunity to offer comments and ask questions at selected points throughout the meeting. Any questions regarding the roundtable discussion should be directed to the meeting facilitator, Francis “Chip” Cameron by phone at 301-415-1642 or e-mail fxc@nrc.gov.

Dated at Rockville, Maryland, this 26th day of September, 2005.
For the Nuclear Regulatory Commission.
Michael R. Johnson,
Director, Office of Enforcement.

[FR Doc. 05-19931 Filed 10-4-05; 8:45 am]

BILLING CODE 7590-01-P